DEPARTMENT OF HEALTH AND HUMAN SERVICES

National Institutes of Health

National Center for Research Resources; Amended Notice of Meeting

Notice is hereby given of a change in the meeting of the National Advisory Research Resources Council, May 17, 2001, 9:15 a.m. to May 17, 2001, 5 p.m., National Center for Research Resources, National Institutes of Health, Conference Room 10, Building 31, Bethesda, MD 20892 which was published in the Federal Register on March 14, 2001, 66 FR 14911.

The meeting of the Executive Subcommittee scheduled for 8 a.m. to 9 a.m. on May 17, 2001, in Conference Room 3B13 has been cancelled. The meeting is partially Closed to the public.

Dated: April 30, 2001.
LaVerne Y. Stringfield,
Director, Office of Federal Advisory Committee Policy.

[FR Doc. 01-11394 Filed 5-4-01; 8:45 am]

BILLING CODE 4140-01-M